DEPARTMENT OF JUSTICE

Bureau of Alcohol, Tobacco, Firearms and Explosives

Agency Information Collection Activities: Proposed Collection; Comments Requested

ACTION: 60-Day Emergency Notice of Information Collection Under Review: Voluntary Magazine Questionnaire for Agencies/Entities Who Store Explosives Materials.

The Department of Justice, Bureau of Alcohol, Tobacco, Firearms and Explosives, has submitted the following information collection request to the Office of Management and Budget (OMB) for review and clearance in accordance with emergency review procedures of the Paperwork Reduction Act of 1995. OMB approval has been requested by January 12, 2006. The proposed information collection is published to obtain comments from the public and affected agencies. If granted, the emergency approval is only valid for 180 days. Comments should be directed to OMB, Office of Information and Regulation Affairs, Attention: Department of Justice Desk Officer, Washington, DC 20503. Comments are encouraged and will be accepted for 60 days until March 20, 2006.

During the first 60 days of this same review period, a regular review of this information collection is also being undertaken. All comments and suggestions, or questions regarding additional information, including a copy of the proposed information collection instrument with instructions, should be directed to Mr. Gary Taylor, Explosives, Room 7400, 650 Massachusetts Avenue, NW., Washington, DC 20226.

Written comments and suggestions from the public and affected agencies concerning the proposed collection of information are encouraged. Your comments should address one or more of the following four points:

—Evaluate whether the proposed collection of information is necessary for the proper performance of the functions of the agency, including whether the information will have practical utility;

—Evaluate the accuracy of the agencies' estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: new collection.

(2) The title of the form/collection: Voluntary Magazine Questionnaire for Agencies/Entities Who Store Explosives Materials.

(3) The agency form number, if any, and the applicable component of the department sponsoring the collection: Form Number: none. Bureau of Alcohol, Tobacco, Firearms and Explosives, Department of Justice.

(4) Affected public who will be asked or required to respond, as well as a brief abstract: Primary: State, Local or Tribal Government. Other: none. The information from the questionnaires will be used to identify the number and locations of public explosive storage facilities including those facilities used by state and local law enforcement. The information will also help ATF account for all explosives materials during emergency situations, such as the recent hurricanes in the Gulf, forest fires, or other disasters.

(5) An estimate of the total number of respondents and the amount of time estimated for an average respondent to respond/reply: It is estimated that 1,000 respondents will complete the application in approximately 30 minutes.

(6) An estimate of the total public burden (in hours) associated with the collection: The estimated total annual public burden associated with this application is 500 hours.

If additional information is required contact: Brenda E. Dyer, Department Clearance Officer, United States Department of Justice, Justice Management Division, Policy and Planning Staff, Patrick Henry Building, Suite 1600, 601 D Street, NW., Washington, DC 20530.

Dated: January 12, 2006.
Brenda E. Dyer,
Department Clearance Officer, Department of Justice.

[FR Doc. 06-476 Filed 1-18-06; 8:45 am]

BILLING CODE 4410-FY-P